DEPARTMENT OF THE INTERIOR

National Park Service

Wrangell-St. Elias National Park Subsistence Resource Commission Meeting

AGENCY: National Park Service, Interior.

ACTION: Announcement of Subsistence Resource Commission meeting.

SUMMARY: The Superintendent of Wrangell-St. Elias National Park and the Chairperson of the Subsistence Resource Commission announce a forthcoming meeting of the Wrangell-St. Elias National Park Subsistence Resource Commission. The following agenda items will be discussed:

(1) Call to Order (Chairman)

(2) Roll Call: Confirmation of Quorum

(3) An introduction of Commission members, staffs, and guests

(4) Review Agenda

(5) Review and approval of minutes from February 20-21, 2001 meeting

(6) Superintendent's welcome and review of the Commission purpose

(7) Commission membership status

(8) Election of Chair and Vice Chair

(9) Public and other agency comments

(10) Superintendent's report

(11) Old Business:

a. Proposal to change Unit 11 sheep regulations

b. Subsistence Hunting Program Recommendation 97-01: establish minimum residency requirement for resident zone communities

c. Customary Trade Concerns

d. Alternate SRC members

e. Roster Regulations

(12) Wrangell-St. Elias National Park and Preserve Staff Report

a. Chief of Resources Update

b. Fisheries Report

c. Cultural Resources Update

d. Wildlife Report

(13) New Business:

a. Update on Federal Fish Management and Resource Monitoring

b. Review of 2001-2002 Federal Subsistence Board Fisheries proposals

c. Subsistence Wildlife Regulations Proposed Changes

d. October 2001 Chairs Workshop Report

(14) Public and other agency comments

(15) Subsistence Resource Commission Work Session

(16) Set time and place of next Subsistence Resource Commission meeting

(17) Adjourn meeting.

DATES: The meeting will begin at 9 a.m. on Tuesday, February 19, 2002, and conclude at approximately 5 p.m. The meeting will reconvene at 9 a.m. on Wednesday, February 20, 2002, and adjourn at approximately 5 p.m. The meeting will adjourn earlier if the agenda items are completed.

Location: The Meeting will be held at the Chitina Village Community Hall, Chitina, Alaska, Telephone (907) 823-2223.

FOR FURTHER INFORMATION CONTACT: Devi Sharp, Chief Natural Resources, Wrangell-St. Elias National Park and Preserve, P.O. Box 439, Copper Center, Alaska 99573. Phone (907) 822-5234.

SUPPLEMENTARY INFORMATION: The Subsistence Resource Commission is authorized under Title VIII, section 808, of the Alaska National Interest Lands Conservation Act, Pub. L. 96-487, and operates in accordance with the provisions of the Federal Advisory Committees Act.

In light of a recent attempt to relocate National Park Service administrative personnel and offices in Washington, DC, this notice may not be published at least 15 days prior to the meeting. The National Park Service regrets these events, but is compelled to hold the meeting as scheduled because of the significant sacrifice re-scheduling would require of commission members who have adjusted their schedules to accommodate the proposed meeting dates.

Draft minutes of the meeting will be available for public inspection approximately 6 weeks after the meeting at the Wrangell-St. Elias National Park and Preserve Office, P.O. Box 439, Copper Center, Alaska 99573. Phone (907) 822-5234.

Robert L. Arnberger,
Regional Director.

[FR Doc. 01-30338 Filed 12-6-01; 8:45 am]

BILLING CODE 4310-70-P